DEPARTMENT OF HEALTH AND HUMAN SERVICES

Centers for Disease Control and Prevention

[Docket Number NIOSH-005]

National Personal Protective Technology Laboratory Public Meeting

AGENCY: National Institute for Occupational Safety and Health (NIOSH) of the Centers for Disease Control and Prevention (CDC).

ACTION: Notice; CDC/NIOSH announces the following meeting.

Name: National Personal Protective Technology Laboratory (NPPTL) Public Meeting on the Performance and Reliability Requirements of Closed-Circuit Escape Respirators (CCER).

Meeting Dates, Times and Places: September 19, 2006, 9 a.m. to 4 p.m., Marriott Key Bridge, 1401 Lee Highway, Arlington, VA 22209; and September 28, 2006, 9 a.m. to 4 p.m. Colorado School of Mines (Petroleum Hall), 1500 Illinois Street, Golden, CO 80401.

Purpose: NIOSH, in cooperation with the Mine Safety and Health Administration (MSHA), is developing a proposed rule on the performance and reliability requirements of closed-circuit escape respirators. Examples of this type of equipment include self-contained self-rescuers (SCSRs) used in the mining industry and emergency escape breathing apparatus (EEBD).

Two meetings will be held, one in Virginia and one in Colorado, to provide an opportunity for an exchange of information between NIOSH and respirator manufacturers, industry representatives, labor representatives, and others with an interest in respiratory protection.

ADDRESSES: Comments concerning the topics presented in this notice should be addressed to the NIOSH Docket Office, Robert A. Taft Laboratories, M/S C34, 4676 Columbia Parkway, Cincinnati, Ohio 45226. All comments submitted to the NIOSH Docket Office regarding closed-circuit escape respirators should reference Docket Number NIOSH-005 in the subject heading.

Submit electronic comments to e-mail address niocindocket@cdc.gov. E-mail attachments submitted to the NIOSH Docket Office at niocindocket@cdc.gov should be formatted in Microsoft Word.

FOR FURTHER INFORMATION CONTACT: NPPTL Event Management, telephone 304-225-5138 or e-mail address npptlevents@cdc.gov.

SUPPLEMENTARY INFORMATION: Interested participants may view the Technical Concept Summary for CCER Certification, as well as earlier versions of other concept papers used during the standards development effort, on the NIOSH Web site: http://www.cdc.gov/niosh/npptl, Respirator Standards Development; Other Respirator Standards. The Technical Concept Summary for CCER Certification will be used as the basis for discussion at the public meeting.

The meetings will be open to the public, limited only by the space available. The meeting rooms will accommodate approximately 80 people. Please confirm your attendance to these meetings by completing the appropriate registration form and submitting it to NPPTL Event Management. There is an individual registration form for each meeting. You may register electronically by accessing the on-line registration link at http://www.cdc.gov/niosh, or you can download an Adobe .PDF form and send it by e-mail to npptlevents@cdc.gov or fax it to 304-225-2003.

Status: Hotel reservations should be made directly with the hotel. A special group rate of $239 per night has been negotiated for meeting guests at the Marriott Key Bridge in Arlington, Virginia. The cut-off date is August 28, 2006. Contact the Marriott at (703-524-6400/800-228-9290).

A rate of $119 per night for meeting guests has been negotiated for the Golden Hotel in Golden, Colorado. The cut-off date is September 1, 2006, and the Golden Hotel can be reached at (303-279-0100/800-233-7214).

The NIOSH Public Meeting must be referenced to receive these rates.

Dated: August 23, 2006.
James D. Seligman,
Chief Information Officer, Centers for Disease Control and Prevention.

[FR Doc. 06-7280 Filed 8-30-06; 8:45 am]

BILLING CODE 4163-18-P